DEPARTMENT OF TRANSPORTATION

Federal Aviation Administration

14 CFR Parts 47, 61, 63, and 65

[Docket No. FAA-2006-26714; Amdt. Nos. 47-28, 61-118, 63-36, and 65-51]

RIN 2120-AI43

Drug Enforcement Assistance; OMB Approval of Information Collection

AGENCY: Federal Aviation Administration, DOT.

ACTION: Final rule; notice of Office of Management and Budget approval for information collection.

SUMMARY: This notice announces the Office of Management and Budget's (OMB's) approval of the information collection requirement contained in the FAA's final rule, “Drug Enforcement Assistance,” which was published on February 28, 2008.

DATES: The FAA received OMB approval for the information collection requirements in 14 CFR 61.19(h), 14 CFR 61.19(e), 14 CFR 63.15(d) and 14 CFR 65.15(d) on October 9, 2008. The rule became effective on March 31, 2008.

FOR FURTHER INFORMATION CONTACT: John G. Bent, Civil Aviation Registry, Mike Monroney Aeronautical Center, 6500 South MacArthur Boulevard, Oklahoma City, OK 73169; telephone (405) 954-4331.

SUPPLEMENTARY INFORMATION: On February 28, 2008, the FAA published the final rule, “Drug Enforcement Assistance” (73 FR 10662). Two years after this rule becomes effective, paper pilot certificates may no longer be used to exercise piloting privileges. Five years after this rule becomes effective, certain other paper airmen certificates, such as those of flight engineers and mechanics, may no longer be used to exercise the privileges authorized by those certificates. To exercise the privileges after those respective dates, the airmen must hold upgraded, counterfeit-resistant plastic certificates. Student pilot certificates, temporary certificates, and authorizations are not affected. The rule contains information collection requirements that had not yet been approved by the Office of Management and Budget at the time of publication. In the DATES section of the rule, the FAA noted that affected parties did not need to comply with the information collection requirements until OMB approved the FAA's request to collect the information.

In accordance with the Paperwork Reduction Act, OMB approved that request on October 9, 2008, and assigned the information collection OMB Control Number 2120-0735. The FAA request was approved by OMB without change and expires on October 31, 2011. This notice is being published to inform affected parties of the approval of the information collection requirements of 14 CFR 61.19(h), 14 CFR 61.19(e), 14 CFR 63.15(d) and 14 CFR 65.15(d).

Issued in Washington, DC, on May 11, 2009.
Pamela Hamilton-Powell,
Director, Office of Rulemaking.

[FR Doc. E9-11362 Filed 5-14-09; 8:45 am]

BILLING CODE 4910-13-P